THE NATIONAL FOUNDATION FOR THE ARTS AND THE HUMANITIES

Institute of Museum and Library Services

Notice of Proposed Information Collection Request: “Museums Empowered: Professional Development Opportunities for Museum Staff”—A Museums for America Special Initiative

AGENCY: Institute of Museum and Library Services.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning Museums Empowered: Professional Development and Capacity Building Opportunities for Museums—A Museums for America Special Initiative.

A copy of the proposed information collection request can be obtained by contacting the individual listed below in the ADDRESSES section of this notice.

DATES: Written comments must be submitted to the office listed in the addressee section below on or before January 12, 2020.

The IMLS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the documents contact: Mark Isaksen, Senior Museum Program Officer, Institute of Museum and Library Services, 955 L'Enfant Plaza North, SW, Suite 4000, Washington, DC 20024. Mr. Isaksen can be reached by telephone: 202-653-4662; fax: 202-653-4667; email: misaksen@imls.gov or by or by teletype (TTY/TDD) for persons with hearing difficulty at 202-653-4614.

FOR FURTHER INFORMATION CONTACT: Kim Miller, Grants Management Specialist, Office of Grants Policy and Management, Institute of Museum and Library Services, 955 L'Enfant Plaza North SW, Suite 4000, Washington, DC 20024-2135. Ms. Miller can be reached by Telephone: 202-653-4762, or by email at kmiller@imls.gov or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

To administer a special initiative in the Museums for America (MFA) grant program titled Museums Empowered: Professional Development Opportunities for Museum Staff—A Museums for America Special Initiative.

Museums for America (MFA) grants support projects that strengthen the ability of an individual museum to serve its public. This is a special MFA initiative with the goal of strengthening the ability of an individual museum to serve its public through professional development activities that cross-cut various departments to generate systemic change within the museum.

As centers of innovation and discovery, as well as catalysts of community revitalization, museums are at the forefront of change in our communities. Like any other institution, museums need to remain dynamic to respond to fast-evolving technological advances and changing demographics. Museums also need to generate and share outcomes-based data and results of their community impact and develop sustainable organizational structures and strategies for continued growth and vitality. Professional Development is critical for museums to deliver on these areas of need.

To support and empower museums of all sizes and disciplines in responding to the evolving needs of the museum profession and changes in their communities, this MFA special initiative has four project categories for professional development: 1. Diversity and Inclusion 2. Digital Technology 3. Evaluation 4. Organizational Management. Potential projects will address one of these four categories and help strengthen the ability of an individual museum to better serve its public. Projects will utilize comprehensive strategies and frameworks to support professional development. Projects should cross-cut various departments and result in systemic change within the museum.

Agency: Institute of Museum and Library Services.

Title: “Museums Empowered: Professional Development Opportunities for Museum Staff”—A Museums for America Special Initiative.

OMB Number: 3137-0107.

Agency Number: 3137.

Frequency: Annually.

Affected Public: Museums that meet the IMLS Museums for America institutional eligibility criteria.

Number of Respondents: 100.

Estimated Time per Respondent: 40 hours.

Total Burden Hours: 4,000.

Total Annualized cost to respondents: $112,480.00.

Total Annualized capital/startup costs: 0.

Total Annualized Cost to Federal Government: $14,471.88.

Public Comments Invited: Comments submitted in response to this notice will be summarized and/or included in the request for OMB's clearance of this information collection.

Dated: November 8, 2019.
Kim Miller,
Grants Management Specialist, Institute of Museum and Library Services.

[FR Doc. 2019-24725 Filed 11-13-19; 8:45 am]

BILLING CODE 7036-01-P